ENVIRONMENTAL PROTECTION AGENCY

[FRL-9138-2]

Science Advisory Board Staff Office; Notification of a Public Meeting of the Advisory Council on Clean Air Compliance Analysis (Council)

AGENCY: Environmental Protection Agency (EPA).

ACTION: Notice.

SUMMARY: The EPA Science Advisory Board (SAB) Staff Office announces a public meeting of the Advisory Council on Clean Air Compliance Analysis (Council). The Council will conduct quality reviews of three subcommittee reports and review draft chapters of the EPA Office of Air and Radiation's Second Section 812 Prospective Analysis of the benefits and costs of the Clean Air Act.

DATES: The meeting will be held on Tuesday, May 4, 2010 and Wednesday, May 5, 2010, beginning at 8:30 a.m. and ending no later than 5 p.m. (Eastern Time), each day.

ADDRESSES: The public meeting will be held in the Science Advisory Board Conference Center, 1025 F Street, NW., Suite 3705, Washington, DC 20004.

FOR FURTHER INFORMATION CONTACT: Members of the public who wish to obtain further information about this meeting may contact Ms. Stephanie Sanzone, Designated Federal Officer (DFO), EPA Science Advisory Board Staff Office (1400F), U.S. Environmental Protection Agency, 1200 Pennsylvania Avenue, NW., Washington, DC 20460; by telephone/voice mail: (202) 343-9697 or at sanzone.stephanie@epa.gov. General information about the Council may be found on the Council Web site at http://www.epa.gov/advisorycouncilcaa.

SUPPLEMENTARY INFORMATION: Background: Pursuant to the Federal Advisory Committee Act (FACA), 5 U.S.C., App. 2, notice is hereby given that the Advisory Council on Clean Air Compliance Analysis (Council) will hold a public meeting to review Council subcommittee draft reports and to review draft EPA documents prepared for the Second Section 812 Prospective Benefit-Cost Analysis of the Clean Air Act. The Council was established in 1991 pursuant to the Clean Air Act (CAA) Amendments of 1990 (see 42 U.S.C. 7612) to provide advice, information and recommendations on technical and economic aspects of analyses and reports EPA prepares on the impacts of the CAA on the public health, economy, and environment of the United States. The Council is a Federal Advisory Committee chartered under FACA. The Council, its subcommittees (Air Quality Modeling Subcommittee, Health Effects Subcommittee, and Ecological Effects Subcommittee) comply with the provisions of FACA and all appropriate SAB Staff Office procedural policies.

Pursuant to Section 812 of the 1990 Clean Air Act Amendments (CAAA), EPA conducts periodic studies to assess benefits and costs of the EPA's regulatory actions under the Clean Air Act. The Council has provided advice on an EPA retrospective study published in 1997 and an EPA prospective study completed in 1999. EPA initiated a second prospective study to evaluate the benefits and costs of EPA Clean Air programs for years 1990-2020. The Council has previously provided advice on the analytical blueprint for this study. EPA's Office of Air and Radiation (OAR) is now nearing completion of the analytical work for the second prospective study, and has requested the Council's review of the draft study.

Quality Review: The Council will conduct quality review of three Council Subcommittee reports prepared in support of the Office of Air and Radiation's Second Section 812 Prospective Study: (1) Air Quality Modeling Subcommittee (AQMS) draft report, Review of Air Quality Modeling for the Second Section 812 Prospective Study of Benefits and Costs of the Clean Air Act. The AQMS held meetings on February 19 and March 15, 2010 to review technical documents pertaining to modeling of air quality for seven emissions scenarios: a 1990 baseline simulation; and simulations for 2000, 2010 and 2020 with and without the CAAA. The analyses use the Community Multiscale Air Quality (CMAQ) model to simulate national and regional-scale (western U.S. and eastern U.S.) concentrations of ozone and fine particulates (PM2.5). The CMAQ outputs are adjusted using the Modeled Attainment Test Software (MATS), and projected differences in ambient concentrations are inputs to the analysis of benefits of the CAAA to human health, welfare, and the environment. Background information on this advisory activity is available on the Council Web site at http://yosemite.epa.gov/sab/sabproduct.nsf/fedrgstr_activites/2nd%20Prospective%20812%20-%20AQMS?OpenDocument; (2) Health Effects Subcommittee (HES) draft report, Review of EPA's DRAFT Health Benefits of the Second Section 812 Prospective Study of the Clean Air Act. The Subcommittee held meetings on December 15-16, 2009 and March 2, 2010 to review technical assessments of health benefits and uncertainty analyses associated with air quality scenarios, including decreases in ambient ozone and particulate matter (PM) concentrations. Background information on this advisory activity is available on the Council Web site at http://yosemite.epa.gov/sab/sabproduct.nsf/fedrgstr_activites/812%20-%202nd%20Prospective%20-%20Health?OpenDocument; and (3) Ecological Effects Subcommittee (EES) draft report, Review of Ecological Effects of Air Pollutants for the Second Section 812 Prospective Study of Benefits and Costs of the Clean Air Act. The Subcommittee met on March 9-10, 2010 to review draft materials that characterize ecological effects associated with decreases in air pollutants, primarily acidic deposition and tropospheric ozone. The materials included a review of scientific literature on the ecological effects of air pollutants regulated by the CAAA, case studies on benefits of the CAAA for recreational fishing and the timber industry in the Adirondack Region of New York State, and an estimation of physical benefits of the air quality scenarios for ozone on agriculture and commercial forestry productivity. Background information on this advisory activity is available on the Council Web site at http://yosemite.epa.gov/sab/sabproduct.nsf/fedrgstr_activites/2nd%20Prospective%20812%20-%20EES?OpenDocument.

Council Review of Draft Section 812 Study. The Council will review draft chapters from the integrated report, Second Section 812 Prospective Study of the Benefits and Costs of the Clean Air Act. OAR is requesting that the Council review (1) the data choices; (2) methodological choices for analyzing the data; and (3) the overall validity and utility of the estimated direct costs and benefits of changes in air quality conditions between the with-CAAA90 and without-CAAA90 scenarios. Background information on this advisory activity is available on the Council Web site at http://yosemite.epa.gov/sab/sabproduct.nsf/fedrgstr_activites/2nd%20Prospective%20812%20Study?OpenDocument.

Technical Contacts: The Office of Air and Radiation technical contact for the Second Section 812 Benefit-Cost Analysis of the Clean Air Act is Mr. Jim DeMocker at (202) 564-1673 or democker.jim@epa.gov.

Availability of Meeting Materials: Draft EPA documents provided to the Council are available at http://www.epa.gov/oar/sect812/prospective2.html. The meeting agenda for May 4-5, 2010 and any background materials, including the draft subcommittee reports, will be posted on the Council Web site (http://www.epa.gov/advisorycouncilcaa) prior to the meeting.

Procedures for Providing Public Input: Interested members of the public may submit relevant written information on the group conducting the activity or written or oral information for the Council to consider on the topics of this advisory activity. Oral Statements: In general, individuals or groups requesting an oral presentation at a public meeting will be limited to five minutes per speaker, with no more than one hour for all speakers. Interested parties should contact Ms. Sanzone at the contact information provided above by April 27, 2010, to be placed on the public speaker list for the May 4-5, 2010 meeting. Written Statements: Written statements should be received in the SAB Staff Office by April 27, 2010, so that the information may be made available to the Council for their consideration prior to the meeting. Written statements should be supplied to Ms. Sanzone in the following formats: one hard copy with original signature and one electronic copy via e-mail (acceptable file format: Adobe Acrobat PDF, MS Word, WordPerfect, MS PowerPoint, or Rich Text files). Submitters are asked to provide electronic versions of each document submitted with and without signatures, because the SAB Staff Office does not publish documents with signatures on its Web sites.

Accessibility: For information on access or services for individuals with disabilities, please contact Ms. Sanzone at (202) 343-9697, or via e-mail at sanzone.stephanie@epa.gov, preferably at least ten (10) days prior to the meeting, to give EPA as much time as possible to process your request.

Dated: April 9, 2010.
Vanessa T. Vu,
Director, EPA Science Advisory Board Staff Office.

[FR Doc. 2010-8761 Filed 4-15-10; 8:45 am]

BILLING CODE 6560-50-P